POSTAL SERVICE

39 CFR Part 111

Label Standards for Combined or Copalletized Periodicals Mailings

AGENCY: Postal Service.

ACTION: Proposed rule.

SUMMARY: The Postal Service proposes revisions to the Domestic Mail Manual (DMM) that would clarify when it is permissible to use the designation “NEWS” rather than the class designation “PER” on Line 2 (the content line) of labels that identify sacks, trays, and pallets containing copies of Periodicals publications or editions in combined mailings or in copalletized mailings.

Current label standards in DMM M031.1.7 provide that “NEWS” may be used on labels for sacks, trays, or pallets for a Periodicals publication only if either one of the following two conditions can be met:

(1) The Periodicals publication is published weekly or more frequently.

(2) The Periodicals publication has been continuously authorized such newspaper treatment since March 1, 1984 or earlier, regardless of publication frequency.

Combined mailings and copalletized mailings, however, often consist of copies that would be eligible for the designation “NEWS” on the container label and other copies that would be eligible only for the designation “PER” on the container label. This proposed rule would provide the following standards for the application of these two designations in such cases:

• If at least 51% of the total number of copies (not number of addressed pieces) in the combined or copalletized mailing can qualify for “NEWS” treatment, then all containers or pallets in such a mailing are labeled “NEWS.”

• If less than 51% of the total number of copies in the combined or copalletized mailing can qualify for “NEWS” treatment, then all containers or pallets in such a mailing are labeled “PER.”

This proposed revision is prompted by changes to mailing standards evolving since 1991 that have added options so that mailers can prepare and consolidate larger volumes of Periodicals mail into a single production mailstream. These consolidations represent an effective means for Periodicals mailers and the Postal Service to improve customer service, promote greater production efficiencies, reduce the number of containers used to prepare mailings, and stabilize rates by eliminating additional mail processing steps. The Postal Service therefore is proposing a special provision for labeling consolidated Periodicals mailings.

This proposed rule would also clarify DMM E230 to identify the two different methods under which a Periodicals combined mailing may be prepared and to note the requirements for submitting postage statements under each method.

DATES: Submit comments on or before November 29, 2002.

ADDRESSES: Mail or deliver written comments to the Manager, Mail Preparation and Standards, U.S. Postal Service, 1735 N. Lynn Street, Room 3025, Arlington, VA 22209-6038. Written comments may be submitted also via fax to 703-292-4058. Copies of all written comments will be available for inspection and photocopying between 9 a.m. and 4 p.m., Monday through Friday, at the Postal Service Headquarters Library, 475 L'Enfant Plaza SW., 11th Floor North, Washington, DC.

FOR FURTHER INFORMATION CONTACT: Neil Berger at (703) 292-3645, Jane Stefaniak at (703) 292-3548, or Marc McCrery at (202) 268-2704.

SUPPLEMENTARY INFORMATION: “NEWS”—a designation for “newspaper”—is printed as part of the information on Line 2 (the content line) of sack, tray, and pallet labels. That information line generally identifies class of mail, mail processing category (such as letter-size mail or flat-size mail), presort level (such as 5-digit or 3-digit), as well as automation or nonautomation status (such as barcoded or nonbarcoded), or type of carrier route sortation, as applicable.

For Periodicals publications, these container labels are affixed by the mailer to pallets or inserted into label holders attached to sacks and trays to identify and distinguish “PER” publications and “NEWS” publications. For those subscribing to “NEWS” publications, the information and articles presented within those publications has an important value that requires both timeliness and predictability of delivery.

Use of “NEWS” and “PER” Designations

For this purpose, the “NEWS” designation helps the Postal Service ensure consistent service and handling for such Periodicals publications from entry into the mailstream, through successive operations in mail processing, to delivery to the intended recipient.

Current label standards in DMM M031.1.7 provide that “NEWS” may be printed on labels for sacks, trays, or pallets for a Periodicals publication only if either one of the following two conditions is met:

(1) The Periodicals publication is published weekly or more frequently.

(2) The Periodicals publication has been continuously authorized such newspaper treatment since March 1, 1984, or earlier, regardless of publication frequency.

“PER”—designation for the class name “Periodicals”—is printed as part of the information on Line 2 (the content line) of mail processing labels. These labels are affixed by the mailer to pallets or inserted into label holders attached to sacks and trays to identify Periodicals publications that do not meet either of the conditions required for the use of the “NEWS” designation.

The use of these two distinct designations is carried forward for all container labeling, with two separate but parallel series of three-digit content identifier numbers (CINs). One series is for those publications qualified to use “NEWS,” and the second series is for those publications that must use “PER.” Each series contains nearly 50 different CINs to meet all possible rate combinations available and all permitted containers.

Combined and Copalletized Mailings

Mailing standards have been introduced over the years to promote the consolidation of different Periodicals publications or different editions of the same publication into larger volume mailings. These standards, however, have not prevented customers from combining copies labeled as “PER” with copies labeled as “NEWS” as a way to improve the depth of sort and to reduce the overall number of containers prepared.

Although current standards specify when a Periodicals publication may be classified and labeled as “NEWS” and when it must be labeled as “PER,” language does not exist to specify the labeling designation to be used when these two types are combined or copalletized.

The Postal Service is proposing use of the designation “NEWS” on the content line for sack, tray, or pallet labels for combined or copalletized mailings when at least 51% of the total number of copies in such mailings can qualify for that designation under DMM M031.1.7.

Although exempt from the notice and comment requirements of the Administrative Procedure Act [5 U.S.C. of 553(b), (c)] regarding proposed rulemaking by 39 U.S.C. 410(a), the Postal Service invites public comment on the following proposed revisions to the Domestic Mail Manual, incorporated in the Code of Federal Regulations. See 39 CFR 111.1.

List of Subject in 39 CFR Part 111

Administrative Practice and Procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

M Mail Preparation and Sortation

M000 General Preparation Standards

* * * * *

M040 Pallets

* * * * *

M045 Palletized Mailings

* * * * *

[Revise heading of 8.0 to read as follows:]

8.0 COPALLETIZED FLAT-SIZE PIECES-PERIODICALS OR STANDARD MAIL

* * * * *

[Amend 8.2 by revising 8.2a, adding new 8.2b, and redesignating current 8.2b as 8.2c to read as follows:]

8.2 Periodicals

Additional standards are as follows:

a. Periodicals eligible for preferred rates (In-County, Nonprofit, Classroom, and Science-of-Agriculture) may be combined with Periodicals eligible for Outside-County rates.

b. All pallets in a copalletized mailing are identified on the content line (Line 2) of the label with only “NEWS” (see M031) or “PER” as the class designation under these conditions:

(1) If at least 51% of the total number of copies in the copalletized mailing can qualify for “NEWS” treatment, then all pallets in such a mailing are labeled “NEWS.”

(2) If less than 51% of the total number of copies in a copalletized mailing can qualify for “NEWS” treatment, then all pallets in such a mailing are labeled “PER.”

* * * * *

[Revise M230 by amending heading of M230; by amending 1.0; and by redesignating and amending current 2.0 as 2.2, current 3.0 as 2.1, current 4.0 as 2.4, and current 5.0 as 2.5 to read as follows:]

M230 Combining Multiple Editions or Publications

1.0 DESCRIPTION

1.1 Purpose

Periodicals publications may be prepared as a combined mailing by merging copies either during production or after finished copies are produced to achieve the finest presort level possible or to reduce the per piece charge.

1.2 Methods

Periodicals combined mailing may be prepared using either one of these following methods:

a. Individually addressed copies of different editions of a Periodicals publication (one title) or individually addressed copies of different Periodicals publications (more than one title) are merged and sorted together to obtain a finer presort level.

b. Two or more copies of different Periodicals publications (two or more titles) are placed within the same mailing wrapper and presented as one addressed piece to a single recipient to reduce the per piece charge.

2.0 BASIC STANDARDS

2.1 Eligibility and Mail Preparation

Each publication in a combined mailing must meet the basic eligibility standards in E211 and the specific standards for the rate claimed. In addition, the combined mailing must meet the eligibility and mail preparation standards for the rate claimed.

2.2 Minimum Volume

For combined mailings prepared under 1.2a, more than one Periodicals publication, or edition of a publication, may be combined to meet the required minimum volume per package, sack, or tray for the rate claimed. For combined mailings prepared under 1.2b, the minimum volume requirements in M210, M220, M810, or M820 apply, as applicable, for the rate claimed.

2.3 Labeling

All sacks or trays in a combined mailing are labeled the same, as either “NEWS” (see M031) or as “PER,” depending on which of the following conditions is met:

a. If at least 51% of the total number of copies in the combined mailing can qualify for “NEWS” treatment, then all sacks or trays in such a mailing are labeled “NEWS.”

b. If less than 51% of the total number of copies in a combined mailing can qualify for “NEWS” treatment, then all sacks or trays in such a mailing are labeled “PER.”

2.4 Documentation

Presort documentation required under P012 must also show the total number of addressed pieces and total number of copies for each publication, and if applicable, each edition in the combined mailing claimed at the carrier route, 5-digit, 3-digit, and basic rates. The publisher must also provide a list, by 3-digit ZIP Code prefix, of the number of addressed pieces for each publication, and if applicable, each edition claiming any destination entry and pallet discounts.

2.5 Postage Statements

Postage statements for a combined mailing must be prepared as follows:

a. For a combined mailing prepared under 1.2a, a separate postage statement that claims all applicable per piece and per pound charges must be prepared for each publication or edition. The mailer must annotate on, or attach to, each postage statement, the title and issue date of each publication or edition included in the combined mailing and indicate that the pieces were prepared as part of a combined mailing under 1.2a.

b. For mailings prepared under 1.2b, a separate postage statement claiming the applicable per pound charges must be prepared for each publication or edition in the combined mailing. The mailer must annotate on, or attach to, each postage statement, the title and issue date of each publication or edition included in the combined mailing and indicate that the copies were prepared as part of a combined mailing under 1.2b. The per piece charges must be claimed as follows:

(1) If all copies in a combined mailing prepared under 1.2b are eligible for the Classroom or Nonprofit discount, the per piece charges must be claimed only on the postage statement for the publication that contains the highest amount of advertising.

(2) If all copies in a combined mailing prepared under 1.2b are not eligible for the Classroom or Nonprofit discount, the per piece charges must be claimed only on the postage statement for the publication that contains the highest amount of advertising.

(3) If a portion of the copies in a combined mailing prepared under 1.2b are eligible for the Classroom or Nonprofit discount and a portion are not eligible for those discounts, the per piece charges must be claimed only on the postage statement for the publication that contains the highest amount of advertising and is not eligible for the Classroom or Nonprofit discount. The Classroom or Nonprofit per piece discount must not be claimed.

* * * * *

An appropriate amendment to 39 CFR 111 to reflect the changes will be published if the proposal is adopted.

Stanley F. Mires,
Chief Counsel, Legislative.

[FR Doc. 02-27500 Filed 10-29-02; 8:45 am]

BILLING CODE 7710-12-P